DEPARTMENT OF THE TREASURY

Office of Thrift Supervision

[AC-23: OTS Nos. 04433 and H4522]

First Savings Financial Group, Inc., Clarksville, IN; Approval of Conversion Application

Notice is hereby given that on August 12, 2008, the Office of Thrift Supervision approved the application of First Savings Bank, F.S.B., Clarksville, Indiana, to convert to the stock form of organization. Copies of the application are available for inspection by appointment (phone number: 202-906-5922 or e-mail Public.Info@OTS.Treaas.gov) at the Public Reading Room, 1700 G Street, NW., Washington, DC 20552, and the OTS Central Regional Office, 1 South Wacker Drive, Suite 2000, Chicago, Illinois 60606.

Dated: August 13, 2008.
By the Office of Thrift Supervision.
Sandra E. Evans,
Federal Register Liaison.

[FR Doc. E8-19127 Filed 8-19-08; 8:45 am]

BILLING CODE 6720-01-M